DEPARTMENT OF DEFENSE

Department of the Army, Corps of Engineers

Intent to Prepare a Draft Environmental Impact Statement (DEIS) as Part of a Section 404 of the Clean Water Act, Permit Application Evaluation for the Proposed South Lawrence Trafficway/K-10 Highway Extension Project, in and near the City of Lawrence, in Douglas County, Kansas

Correction

In notice document 01-19759 beginning on page 41211 in the issue of Tuesday, August 7, 2001, make the following correction:

On page 41211, in the second column, under FOR FURTHER INFORMATION CONTACT:, in the third line, the telephone number “ (816) 983-3635” should read, “(816) 983-3656 ”.

[FR Doc. C1-19759 Filed 8-10-01; 8:45 am]

BILLING CODE 1505-01-D

DEPARTMENT OF DEFENSE

Department of the Army, Corps of Engineers

Notice of Intent to Prepare a Joint Supplemental Environmental Impact Statement (SEIS)/Supplemental Environmental Impact Report(SEIR) for the Llagas Creek Flood Control Project

Correction

In notice document 01-19758 beginning on page 41212 in the issue of Tuesday, August 7, 2001, make the following correction:

On page 41212, in the third column, under the heading FOR FURTHER INFORMATION CONTACT, in the third line, the telephone number “(415) 977-8543” should read “(415) 977-8542”.

[FR Doc. C1-19758 Filed 8-10-01; 8:45 am]

BILLING CODE 1505-01-D

DEPARTMENT OF DEFENSE

DEPARTMENT OF TRANSPORTATION

DEPARTMENT OF VETERANS AFFAIRS

38 CFR Part 21

RIN 2900-AK45

End of the Service Members Occupational Conversion and Training Program

Correction

In rule document 01-18609 beginning on page 38938 in the issue of Thursday, July 26, 2001, make the following corrections:

§21.7131 [Corrected]

1. On page 38939, in the first column, in amendment number 6, “§ 21.7135” is corrected to read “§ 21.7131”.

§21.7135 [Corrected]

2. On the same page, in the same column, amendment 7 should read as set forth above.

[FR Doc. C1-18609 Filed 8-10-01; 8:45 am]

BILLING CODE 1505-01-D

DEPARTMENT OF TRANSPORTATION

Federal Aviation Administration

14 CFR Part 39

[Docket No. 2001-NM-202-AD; Amendment 39-12362;AD 2001-15-27]

RIN 2120-AA64

Airworthiness Directives; Israel Aircraft Industries, Ltd., Model 1125 Westwind Astra Series Airplanes

Correction

In rule document 01-19256, beginning on page 40883, in the issue of Monday, August 6, 2001, make the following correction:

On page 40884, in the first column, under the heading DATES: in the fifth line, “September 5, 2001” should read “August 21, 2001.”.

[FR Doc. C1-19256 Filed 8-10-01; 8:45 am]

BILLING CODE 1505-01-D

DEPARTMENT OF TRANSPORTATION

Federal Aviation Administration

14 CFR Part 39

[Docket No. 2000-NM-276-AD; Amendment 39-12329; AD 2001-14-18]

RIN 2120-AA64

Airworthiness Directives; Boeing Model 747 Series Airplanes

Correction

In rule document 01-18015 beginning on page 38892 in the issue of Thursday, July 26, 2001, make the following correction:

On page 38895, in Table 2, in Procedure 2, in the second column, the entry “10,000 total flight cycles or 1,500 500 flight cycles after the effective date of this AD.” is corrected to read “10,000 total flight cycles or 1,500 flight cycles after January 6, 1997 or 100 flight cycles after the effective date of this AD.”

[FR Doc. C1-18015 Filed 8-10-01; 8:45 am]

BILLING CODE 1505-01-D

DEPARTMENT OF THE TREASURY

Bureau of Alcohol, Tobacco and Firearms

27 CFR Parts 178 and 179

[T.D. ATF-461; Ref: Notice No. 877]

RIN 1512-AB84

Identification Markings Placed on Firearms (98R-341P)

Correction

In rule document 01-19418, beginning on page 40596, in the issue of Friday, August 3, 2001, make the following correction:

On page 40596, in the first column, under the heading SUMMARY:, in the ninth line, “1 1/16” should read “1/16”.

[FR Doc. C1-19418 Filed 8-10-01; 8:45 am]

BILLING CODE 1505-01-D